DEPARTMENT OF TRANSPORTATION

Federal Aviation Administration

14 CFR Part 39

[Docket No. 2001-NM-319-AD; Amendment 39-13320; AD 2003-20-02]

RIN 2120-AA64

Airworthiness Directives; Dornier Model 328-300 Series Airplanes Equipped With Certain Pratt & Whitney PW306B Engine Nacelles

AGENCY: Federal Aviation Administration, DOT.

ACTION: Final rule.

SUMMARY: This amendment adopts a new airworthiness directive (AD), applicable to certain Dornier Model 328-300 series airplanes, that requires a one-time inspection of the anti-ice tubing in the engine nacelle at the joint between the anti-ice tubing adapter and duct, and also between the joint of the anti-ice shutoff valve and the same duct, to detect any air leakage at the joints. This action is necessary to prevent an uncommanded engine shutdown in a critical phase of flight due to leakage of air from a loose clamp on the anti-ice tubing joint. This action is intended to address the identified unsafe condition.

DATES: Effective November 4, 2003.

The incorporation by reference of certain publications listed in the regulations is approved by the Director of the Federal Register as of November 4, 2003.

ADDRESSES: The service information referenced in this AD may be obtained from AvCraft Aerospace GmbH, P.O. Box 1103, D-82230 Wessling, Germany. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to certain Dornier Model 328-300 series airplanes was published in the Federal Register on July 15, 2003 (68 FR 41762). That action proposed to require a one-time inspection of the anti-ice tubing in the engine nacelle at the joint between the anti-ice tubing adapter and duct, and also between the joint of the anti-ice shutoff valve and the same duct, to detect any air leakage at the joints.

Comments

The FAA provided the public the opportunity to participate in the development of this AD. We received no comments on the proposed AD or on the determination of the cost to the public.

Conclusion

We have carefully reviewed the available data and determined that air safety and the public interest require adopting the AD as proposed.

Change to Hourly Labor Rate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

We estimate that 48 airplanes of U.S. registry will be affected by this AD, that it will take approximately 1 work hour per airplane to do the inspection, and that the average labor rate is $65 per work hour. Based on these figures, the cost impact of the AD on U.S. operators is estimated to be $3,120, or $65 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-20-02 Fairchild Dornier Gmbh (Formerly Dornier Luftfahrt GmbH): Amendment 39-13320. Docket 2001-NM-319-AD.

Applicability: Model 328-300 series airplanes equipped with Pratt & Whitney PW306B engine nacelles, from engine nacelle serial number DR0001 up to and including serial number DR0051, certificated in any category.

Compliance: Required as indicated, unless accomplished previously.

To prevent an uncommanded engine shutdown in a critical phase of flight due to leakage of air from a loose clamp on the anti-ice tubing joint, accomplish the following:

Inspection

(a) Within 45 days after the effective date of this AD, perform a detailed inspection of the anti-ice tubing in the engine nacelle at the joint between the anti-ice tubing adapter and duct, and also between the joint of the anti-ice shutoff valve and the same duct, to detect any air leakage at the joints, as specified in the Accomplishment Instructions of Dornier Service Bulletin SB-328J-71-107, Revision 1, dated July 4, 2001. If no leakage is detected, no further action is required by this AD.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Modification

(b) If air leakage is found during the detailed inspection required by paragraph (a) of this AD, before further flight, modify the joint by doing the applicable actions specified in the Accomplishment Instructions of Dornier Service Bulletin SB-328J-71-107, Revision 1, dated July 4, 2001.

Alternative Methods of Compliance

(c) In accordance with 14 CFR 39.19, the Manager, International Branch, ANM-116, FAA, is authorized to approve alternative methods of compliance for this AD.

Incorporation by Reference

(d) The actions must be done in accordance with Dornier Service Bulletin SB-328J-71-107, Revision 1, dated July 4, 2001. This incorporation by reference was approved by the Director of the Federal Register in accordance with 5 U.S.C. 552(a) and 1 CFR part 51. Copies may be obtained from AvCraft Aerospace GmbH, P.O. Box 1103, D-82230 Wessling, Germany. Copies may be inspected at the FAA, Transport Airplane Directorate, 1601 Lind Avenue, SW., Renton, Washington; or at the Office of the Federal Register, 800 North Capitol Street, NW., suite 700, Washington, DC.

Note 2: The subject of this AD is addressed in German airworthiness directive 2001-296, dated October 18, 2001.

Effective Date

(e) This amendment becomes effective on November 4, 2003.

Issued in Renton, Washington, on September 23, 2003.
Ali Bahrami,
Acting Manager, Transport Airplane Directorate, Aircraft Certification Service.

[FR Doc. 03-24488 Filed 9-29-03; 8:45 am]

BILLING CODE 4910-13-U